DEPARTMENT OF LABOR

Employment and Training Administration

[TA-W-58,916]

Sony Electronics Inc., Display Device—San Diego, San Diego, CA; Notice of Termination of Investigation

Pursuant to Section 221 of the Trade Act of 1974, as amended, an investigation was initiated on February 27, 2006 in response to a petition filed by a company official on behalf of workers at Sony Electronics Inc., Display Device San Diego, San Diego, California.

The petitioner has requested that the petition be withdrawn. Consequently, the investigation has been terminated.

Signed at Washington, DC this 30th day of March, 2006.
Linda G. Poole,
Certifying Officer, Division of Trade Adjustment Assistance.

[FR Doc. E6-5415 Filed 4-11-06; 8:45 am]

BILLING CODE 4510-30-P